NUCLEAR REGULATORY COMMISSION

[Docket Nos. 50-272 and 50-311]

PSEG Nuclear LLC; Notice of Withdrawal of Application for Amendment to Facility Operating License

The U.S. Nuclear Regulatory Commission (the Commission) has granted the request of PSEG Nuclear LLC (the licensee) to withdraw its August 17, 2001, application for proposed amendment to Facility Operating License Nos. DPR-70 and DPR-75 for the Salem Nuclear Generating Station, Unit Nos. 1 and 2, located in Salem County, New Jersey.

The proposed amendment would have revised Salem Technical Specification (TS) Surveillance Requirement 4.6.2.3, and its associated TS Bases. Specifically, the proposed change would have modified the current acceptance criterion for the service water flow rate through the Containment Fan Coil Units from ≥ 2,550 gallons per minute (gpm) to ≥ 2,300 gpm.

The Commission had previously issued a Notice of Consideration of Issuance of Amendment published in the Federal Register on October 17, 2001 (66 FR 52802). However, by letter dated August 15, 2002, the licensee withdrew the proposed change.

For further details with respect to this action, see the application for amendment dated August 17, 2001, and the licensee's letter dated August 15, 2002, which withdrew the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 16th day of August, 2002.
For the Nuclear Regulatory Commission.
Robert J. Fretz,
Project Manager, Section 2, Project Directorate I, Division of Licensing Project Management, Office of Nuclear Reactor Regulation.

[FR Doc. 02-21412 Filed 8-21-02; 8:45 am]

BILLING CODE 7590-01-P